DELAWARE RIVER BASIN COMMISSION

Notice of Commission Meeting and Public Hearing

Notice is hereby given that the Delaware River Basin Commission will hold an informal conference followed by a public hearing on Thursday, September 13, 2001. The hearing will be part of the Commission's regular business meeting. Both the conference session and business meeting are open to the public and will be held at Temple University Ambler, 580 Meetinghouse Road, Ambler, Pennsylvania.

The conference among the Commissioners and staff will begin at 10 a.m. The session will include a welcome and remarks on the Center for Sustainable Communities by Temple Ambler Dean Dr. Sophia T. Wisniewska; introduction of the Commission's new Deputy Executive Director; and reports on: The status of the Commission's comprehensive planning effort; development of the PCB TMDL for the Delaware Estuary; the Toxics Advisory Committee meeting of August 9, 2001; the TMDL PCB Expert Panel meeting of September 11, 2001; the Flow Management Technical Advisory Committee meeting of July 26, 2001; and the July 31, 2001 Day on the Delaware, hosted by the Delaware River Foundation and Trout Unlimited.

The subjects of the public hearing to be held during the 1 p.m. business meeting include, in addition to the dockets listed below, a resolution recognizing the July 2001 codification of the Delaware River Basin Commission's policies and approved projects and facilities as the comprehensive plan of the Commission in accordance with Section 13.1 of the Delaware River Basin Compact; deleting the Evansburg Project from the plan; making additional minor revisions; and providing for the codification's electronic publication and updating.

The dockets scheduled for public hearing are as follows:

1. Public Service Enterprise Group D-68-20 CP (Revision 2). A project to revise the heat dissipation area specified in DRBC Docket No. D-68-20 CP (Revision 1) for the thermal discharge from Salem Generating Station. The project is located on Artificial Island in Lower Alloways Township, Salem County, New Jersey, in DRBC Water Quality Zone 5.

2. Anthony E. Argiros D-99-46. A project to replace the applicant's failing sewage leach fields with a 16,500 gallons per day (gpd) secondary treatment plant which will continue to serve the Family School in the Town of Hancock, Delaware County, New York. The proposed sewage treatment plant (STP) will discharge to Abe Lord Creek, a tributary of the Delaware River.

3. New Jersey-American Water Company D-99-73 CP. A ground water withdrawal project to supply up to 25.4 million gallons (mg)/30 days of water to the applicant's Logan System from new Well No. 6 and to increase the withdrawal limit from all wells to 50 mg/30 days. The project is located in Logan Township, Gloucester County, New Jersey.

4. Montgomery Township Municipal Sewer Authority D-2001-16 CP. A project to expand the Eureka STP from 0.75 mgd to 2.4 mgd, while continuing to provide advanced secondary level treatment via an anoxic/oxic process. The plant is located at 1485 Lower State Road, approximately 1,000 feet west of State Highway 152. The plant will continue to serve residential and industrial development in portions of Montgomery Township, Montgomery County, Pennsylvania. STP effluent will discharge to Little Neshaminy Creek through the existing outfall.

5. Wernersville Municipal Authority D-2001-17 CP. A project to transfer up to 1.5 mgd of potable water to the applicant's public water distribution system via an interconnection with the Western Berks Water Authority (WBWA). The applicant proposes to construct a 20,300 linear feet pipeline from Hains Church to the WBWA water main on Robers Bridge Road approximately 3,000 feet east of its intersection with State Hill Road, all within Lower Heidelberg Township, Berks County, Pennsylvania. The project will serve mainly residential customers in Wernersville Borough, Lower Heidelberg and South Heidelberg Townships, all in Berks County.

6. Hilltown Township Water and Sewer Authority D-2001-19 CP. A project to construct a 0.15 mgd STP to serve approximately 2,500 existing and future residents of Hilltown Township, Bucks County, Pennsylvania. The proposed STP will provide tertiary level treatment via sequencing batch reactors, chemical precipitation and disk filtration. The proposed STP will be located approximately 3,000 feet north of the intersection of Keystone Drive and Diamond Road in Hilltown Township. STP effluent will be discharged to an unnamed tributary of Mill Creek in the East Branch Perkiomen Creek watershed.

7. Artesian Water Company D-2001-24 CP. A ground water withdrawal project to supply up to 13 mg/30 days of water to the applicant's public water supply system from new Well No. 1 in the Cockeysville Formation; to interconnect Well No. 1 to Artesian Water Company's distribution system; and to increase the existing withdrawal from all wells to 553 mg/30 days. The project is located in the Brandywine-Christina watershed Northeast of the city of Newark, New Castle County, Delaware.

8. Upper Merion Municipal Utility Authority D-2001-29 CP. A project to relocate an STP outfall from a small stream, Trout Creek (locally known as Trout Run), to the nearby Schuylkill River. No expansion of the 6 mgd STP is proposed. The STP will continue to provide secondary treatment via a trickling filter and oxidation tower process. The project is located on Mancill Mill Road in Upper Merion Township, Montgomery County, Pennsylvania. The project will continue to serve portions of Tredyffrin and Easttown Townships in Chester County and Upper Merion Township in Montgomery County, Pennsylvania.

9. Artesian Water Company, Inc. D-2001-34 CP. A ground water withdrawal project to supply up to 14 mg/30 days of water to the applicant's public water supply system from new Well No. 1 in the Cheswold Formation. The project is located in the St. Jones River watershed, Kent County, Delaware.

In addition to the public hearing, the Commission will address the following at its 1 p.m. business meeting: Minutes of the July 25, 2001 business meeting; announcements; report on hydrologic conditions; reports by the Executive Director and Acting General Counsel; public dialogue; and resolutions (1) amending the Administrative Manual, By-Laws, Management and Personnel to provide for confirmation of the appointment of the Deputy Executive Director; (2) confirming the appointment of a new Deputy Executive Director to the Commission; (3) authorizing the Executive Director to enter into an agreement for development of a TMDL database through an existing General Services Administration Contract with Battelle; and (4) authorizing the Executive Director to enter into contracts with Rutgers University and the University of Maryland for air-water flux and sediment studies to support development of a TMDL for PCBs in the Delaware Estuary consistent with certain grant awards.

Documents relating to the dockets and other items may be examined at the Commission's offices. Preliminary dockets are available in single copies upon request. Please contact Thomas L. Brand at 609-883-9500 ext. 221 with any docket-related questions. Persons wishing to testify at this hearing are requested to register in advance with the Secretary at 609-883-9500 ext. 203.

Individuals in need of an accommodation as provided for in the Americans With Disabilities Act who wish to attend the hearing should contact the Commission Secretary, Pamela M. Bush, directly at 609-883-9500 ext. 203 or through the New Jersey Relay Service at 1-800-852-7899 (TTY) to discuss how the Commission may accommodate your needs.

Dated: August 27, 2001.
Pamela M. Bush,
Commission Secretary and Acting General Counsel.

[FR Doc. 01-22407 Filed 9-5-01; 8:45 am]

BILLING CODE 6360-01-P